DEPARTMENT OF HOMELAND SECURITY

U.S. Immigration and Customs Enforcement

[Docket No. ICEB-2022-0012]

RIN 1653-ZA32

Employment Authorization for Ethiopian F-1 Nonimmigrant Students Experiencing Severe Economic Hardship as a Direct Result of the Current Crisis in Ethiopia

Correction

In Notice document 2022-26874, appearing on page 76068-76073, in the issue of Monday, December 12, 2022, make the following corrections:

1. On page 76068, in the third column, in the twenty-first line, the text entry “[DATE]” is corrected to read “June 12”.

2. On the same page, in the same column, in the tenth line of footnote 1, the text entry “[DATE]” is corrected to read “June 12”.

3. On page 76070, in the second column, in the tenth line of footnote 17, the text entry “[date]” is corrected to read “June 12”.

4. On page 76071, second column, in the tenth line of footnote 19, the text entry “[date]” is corrected to read “June 12”.

5. On page 76072, second column, in the tenth line of footnote 25, the text entry “[date]” is corrected to read “June 12”.

6. On the same page, in the third column, in the forty-first line, the text entry “[DATE]” is corrected to read “June 12”.

7. On page 76073, in the second column, in the forty-third line, the text entry “[DATE]” is corrected to read “June 12”.

8. On the same page, in the same column, in the tenth line of footnote 31, the text entry “[date]” is corrected to read “June 12”.

[FR Doc. C1-2022-26874 Filed 1-31-23; 8:45 am]

BILLING CODE 0099-10-D